NATIONAL AERONAUTICS AND SPACE ADMINISTRATION

[Notice: (11-031)]

NASA Advisory Council; Technology and Innovation Committee; Meeting

AGENCY: National Aeronautics and Space Administration.

ACTION: Notice of meeting.

SUMMARY: In accordance with the Federal Advisory Committee Act, Public Law 92-463, as amended, the National Aeronautics and Space Administration announces a meeting of the Technology and Innovation Committee of the NASA Advisory Council. The meeting will be held for the purpose of reviewing the Space Technology programs and review knowledge management and technology transfer activities within the Office of the Chief Technologist.

DATES: Thursday, April 28, 2011, 8:30 a.m. to 4 p.m., Local Time and Friday, April 29, 2011, 8:30 a.m. to 12:30 p.m., Local Time.

ADDRESSES: NASA Headquarters, 300 E Street, SW., Room MIC-6A (6H45), Washington, DC 20546.

FOR FURTHER INFORMATION CONTACT: Mr. Mike Green, Office of the Chief Technologist, NASA Headquarters, Washington, DC 20546, (202) 358-4710, fax (202) 358-4078, or g.m.green@nasa.gov.

SUPPLEMENTARY INFORMATION: The meeting will be open to the public up to the capacity of the room. The agenda for the meeting includes the following topics:

—Office of the Chief Technologist Update.

—Space Technology Programs Updates.

—Knowledge management and technology transfer and licensing activities update.

—Update on technology and innovation in NASA Commercial and Emerging Space activities.

It is imperative that the meeting be held on these dates to accommodate the scheduling priorities of the key participants. Attendees will be requested to sign a register and to comply with NASA security requirements, including the presentation of a valid picture ID, before receiving an access badge. Foreign nationals attending this meeting will be required to provide a copy of their passport, visa, or green card in addition to providing the following information no less than 10 working days prior to the meeting: Full name; gender; date/place of birth; citizenship; visa/green card information (number, type, expiration date); passport information (number, country, expiration date); employer/affiliation information (name of institution, address, country, telephone); title/position of attendee. To expedite admittance, attendees with U.S. citizenship can provide identifying information 3 working days in advance by contacting Mr. Mike Green via e-mail at g.m.green@nasa.gov or by telephone at (202) 358-4710.

P. Diane Rausch,
Advisory Committee Management Officer, National Aeronautics and Space Administration.

[FR Doc. 2011-8457 Filed 4-7-11; 8:45 am]

BILLING CODE P